NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number.

1. Type of submission, new, revision, or extension: Extension.

2. The title of the information collection: NRC Form 136, “Security Termination Statement”; NRC Form 237, “Request for Access Authorization”; and NRC Form 277, “Request for Visit”.

3. The form number if applicable: NRC Form 136; NRC Form 237; and NRC Form 277.

4. How often the collection is required: On occasion.

5. Who will be required or asked to report: NRC Form 136, any employee of 68 licensees and 7 contractors, who have been granted an NRC access authorization; NRC Form 237, any employee of approximately 68 licensees and 7 contractors who will require an NRC access authorization. NRC Form 277, any employee of 2 current NRC contractors who holds an NRC access authorization, and needs to make a visit to NRC, other contractors/licensees or government agencies in which access to classified information will be involved or unescorted area access is desired.

6. An estimate of the number of annual responses: NRC Form 136: 225; NRC Form 237: 420; and NRC Form 277: 6.

7. The estimated number of annual respondents: NRC Form 136: 75; NRC Form 237: 75; and NRC Form 277: 2.

8. An estimate of the total number of hours needed annually to complete the requirement or request: NRC Form 136: 23; NRC Form 237: 84; and NRC Form 277: 1.

9. An indication of whether section 3507(d), Pub. L. 104-13 applies: N/A.

10. Abstract: The NRC Form 136 affects the employees of licensees and contractors who have been granted an NRC access authorization. When access authorization is no longer needed, the completion of the form apprizes the respondents of their continuing security responsibilities. The NRC Form 237 is completed by licensees, NRC contractors or individuals who require an NRC access authorization. The NRC Form 277 affects the employees of contractors who have been granted an NRC access authorization and require verification of that access authorization and need-to-know in conjunction with a visit to NRC or another facility.

A copy of the final supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions should be directed to the OMB reviewer listed below by June 28, 2004. Comments received after this date will be considered if it is practical to do so, but assurance of consideration cannot be given to comments received after this date. OMB Desk Officer, Office of Information and Regulatory Affairs (3150-0049; -0050; and -0051), NEOB-10202, Office of Management and Budget, Washington, DC 20503.

Comments can also be submitted by telephone at (202) 395-3087.

The NRC Clearance Officer is Brenda Jo. Shelton, (301) 415-7233.

Dated at Rockville, Maryland, this 20th day of May, 2004.
For the Nuclear Regulatory Commission.
Brenda Jo. Shelton,
NRC Clearance Officer, Office of the Chief Information Officer.

[FR Doc. 04-11989 Filed 5-26-04; 8:45 am]

BILLING CODE 7590-01-P